DEPARTMENT OF COMMERCE

International Trade Administration

[A-570-910]

Circular Welded Carbon Quality Steel Pipe From the People's Republic of China: Rescission of Antidumping Duty Administrative Review; 2016-2017

AGENCY: Enforcement and Compliance, International Trade Administration, Department of Commerce.

SUMMARY: The Department of Commerce (the Department) is rescinding the administrative review of the antidumping duty order on circular welded carbon quality steel pipe from the People's Republic of China (PRC) covering the period July 1, 2016, through June 30, 2017.

DATES: Applicable November 13, 2017.

FOR FURTHER INFORMATION CONTACT: Eli Lovely, AD/CVD Operations, Office IV, Enforcement & Compliance, International Trade Administration, Department of Commerce, 1401 Constitution Avenue NW., Washington, DC 20230; telephone: (202) 482-1593.

SUPPLEMENTARY INFORMATION:

Background

On September 13, 2017, based on a timely request by Zekelman Industries (Zekelman), the Department published in the Federal Register a notice of initiation of an administrative review of the antidumping duty order on circular welded carbon quality steel pipe from the PRC with respect to 20 companies.¹ On September 29, 2017, pursuant to 19 CFR 351.213(d)(1), Zekelman timely withdrew its request for an administrative review of all 20 companies.²

¹ See Initiation of Antidumping and Countervailing Duty Administrative Reviews, 82 FR 42974 (September 13, 2017).

² See Letter from Zekelman Industries, regarding “Circular Welded Carbon Quality Steel Pipe from the People's Republic of China: Withdrawal of Request for Administrative Review,” dated September 29, 2017.

Rescission of Administrative Review

Pursuant to 19 CFR 351.213(d)(1), the Department will rescind an administrative review, in whole or in part, if the party that requested the review withdraws the requests within 90 days of the date of publication of the notice of initiation of the requested review. Zekelman withdrew its review request by the 90-day deadline, and no other parties requested an administrative review of this order. Therefore, we are rescinding the administrative review of the antidumping duty order on circular welded carbon quality steel pipe from the PRC covering the period July 1, 2016 to June 30, 2017, in its entirety.

Assessment

The Department will instruct U.S. Customs and Border Protection (CBP) to assess antidumping duties on all appropriate entries. Because the Department is rescinding this administrative review in its entirety, the entries to which this administrative review pertains shall be assessed antidumping duties that are equal to the cash deposits of estimated antidumping duties required at the time of entry, or withdrawal from warehouse, for consumption, in accordance with 19 CFR 351.212(c)(1)(i). The Department intends to issue appropriate assessment instructions to CBP within 15 days after the publication of this notice in the Federal Register.

Notification to Importers

This notice serves as the only reminder to importers of their responsibility under 19 CFR 351.402(f)(2) to file a certificate regarding the reimbursement of antidumping duties prior to liquidation of the relevant entries during this review period. Failure to comply with this requirement could result in the presumption that reimbursement of the antidumping duties occurred and the subsequent assessment of doubled antidumping duties.

Administrative Protective Orders

This notice also serves as the only reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

This notice is issued and published in accordance with sections 751(a)(1) and 777(i)(1) of the Tariff Act of 1930, as amended, and 19 CFR 351.213(d)(4).

Dated: November 6, 2017.
James Maeder,
Senior Director performing the duties of Deputy Assistant Secretary for Antidumping and Countervailing Duty Operations.

[FR Doc. 2017-24514 Filed 11-9-17; 8:45 a.m.]

BILLING CODE 3510-DS-P